DEPARTMENT OF COMMERCE

International Trade Administration

[C-570-971]

Multilayered Wood Flooring From the People's Republic of China: Final Results of Countervailing Duty Administrative Review; 2022

AGENCY: Enforcement and Compliance, International Trade Administration, Department of Commerce.

SUMMARY: The U.S. Department of Commerce (Commerce) determines that certain producers and/or exporters of multilayered wood flooring (wood flooring) from the People's Republic of China (China), received countervailable subsidies during the period of review (POR) January 1, 2022, through December 31, 2022.

DATES: Applicable September 19, 2025.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-3456, respectively.

SUPPLEMENTARY INFORMATION:

Background

Commerce published the Preliminary Results of this administrative review in the Federal Register on March 20, 2025, and invited interested parties to comment.¹ On June 18, 2025, Commerce extended the final results of this review. For a complete description of the events that followed the Preliminary Results, see the Issues and Decision Memorandum.²

¹ See Multilayered Wood Flooring from the People's Republic of China: Preliminary Results and Partial Rescission of Countervailing Duty Administrative Review; 2022, 90 FR 13142 (March 20, 2025) (Preliminary Results), and accompanying Preliminary Decision Memorandum (PDM).

² See Memorandum, “Issues and Decision Memorandum for the Final Results of the Countervailing Duty Administrative Review of Multilayered Wood Flooring from the People's Republic of China; 2022,” dated concurrently with, and hereby adopted by, this notice (Issues and Decision Memorandum).

Scope of the Order

The product covered by the Order ³ is multilayered wood flooring from China. For a complete description of the scope of the Order, see the Issues and Decision Memorandum.⁴

³ See Multilayered Wood Flooring from the People's Republic of China: Countervailing Duty Order, 76 FR 76693 (December 8, 2011); see also Multilayered Wood Flooring from the People's Republic of China: Amended Antidumping and Countervailing Duty Orders, 77 FR 5484 (February 3, 2012); and Multilayered Wood Flooring from the People's Republic of China: Final Clarification of the Scope of the Antidumping and Countervailing Duty Orders, 82 FR 27799 (June 19, 2017) (collectively, Order).

⁴ See Issues and Decision Memorandum.

Analysis of Comments Received

All issues raised in in the interested party's brief are addressed in the Issues and Decision Memorandum. A list of the issues addressed is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the case and rebuttal briefs and the evidence on the record, we made certain changes to Riverside's countervailable subsidy calculations from the Preliminary Results. These changes are explained in the Issues and Decision Memorandum.

Methodology

Commerce is conducting this review in accordance with section 751(a)(1)(A) of the Tariff Act of 1930, as amended (the Act). For each of the subsidy programs found countervailable, we find that there is a subsidy, i.e., a government-provided financial contribution that gives rise to a benefit to the recipient, and that the subsidy is specific.⁵ The Issues and Decision Memorandum contains a full description of the methodology underlying Commerce's conclusions, including any determination that relied upon the use of adverse facts available pursuant to sections 776(a) and (b) of the Act.

⁵ See sections 771(5)(B) and (D) of the Act regarding financial contribution; section 771(5)(E) of the Act regarding benefit; and section 771(5A) of the Act regarding specificity.

Rate for Non-Responsive Companies

As explained in the Preliminary Results, Huzhou Fulinmen Imp. & Exp. Co., Ltd (Huzhou Fulinmen) and Tongxiang Jisheng Import and Export Co., Ltd (Tongxiang Jisheng) were selected as mandatory respondents in this review, however, neither company responded to Commerce's countervailing duty (CVD) questionnaire. We continue to find that by not responding to Commerce's requests for information, these companies withheld requested information and significantly impeded this proceeding. Thus, in reaching our final results, pursuant to sections 776(a)(2)(A) and (C) of the Act, we continue to base the CVD subsidy rates for these non-responsive companies on facts otherwise available.

Further, we continue to determine that an adverse inference is warranted, pursuant to section 776(b) of the Act. By failing to submit responses to Commerce's CVD questionnaire, these two non-responsive companies did not cooperate to the best of their ability in this review. Accordingly, we continue to find that an adverse inference is warranted to ensure that the non-responsive companies will not obtain a more favorable result than if they had fully complied with Commerce's request for information. Our application of adverse facts available to these two non-responsive companies has not changed since the Preliminary Results. For more information, see “Use of Facts Otherwise Available and Adverse Inferences” in the Preliminary Results PDM.

Rate for Non-Selected Companies Under Review

The statute and Commerce's regulations do not address the establishment of a rate to be applied to companies not selected for individual examination when Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate the all-others rate equal to the weighted average of the countervailable subsidy rates established for exporters and producers individually investigated, excluding any zero or de minimis countervailable subsidy rates, and any rates determined entirely on the basis of facts available.

There are two companies (i.e., Benxi Wood Company and Dalian Jaenmaken Wood Industry Co., Ltd.) which remain subject to this review and which were not selected as mandatory respondents or found to be cross-owned with a mandatory respondent. Because only the rate calculated for mandatory respondent Riverside Plywood Corporation (Riverside) is above de minimis and not based entirely on facts available, we assigned the subsidy rate calculated for Riverside to Benxi Wood Company and Dalian Jaenmaken Wood Industry Co., Ltd. This methodology is consistent with our practice for establishing an all-others subsidy rate pursuant to section 705(c)(5)(A) of the Act.

Final Results of Administrative Review

We determine the counteravailable subsidy rates for the mandatory and non-selected respondents under review for the period of January 1, 2022, through December 31, 2022 are as follows

⁶ Cross-owned affiliates are Baroque Timber (Zhongshan) Industries, Suzhou Times Flooring Co., Ltd., and Zhongshan Lianjia Flooring Co., Ltd.

Producer/exporter | Subsidy rate (percent ad valorem)
Riverside Plywood Corporation and Its Cross-Owned Affiliate ⁶ | 10.51
Huzhou Fulinmen Imp. & Exp. Co., Ltd | 430.38
Tongxiang Jisheng Import and Export Co., Ltd | 430.38
Review Specific Rate for Non-Examined Companies
Benxi Wood Company | 10.51
Dalian Jaenmaken Wood Industry Co., Ltd | 10.51

Disclosure

Commerce intends to disclose the calculations and analysis performed for these final results of review within five days of the date of publication of this notice in the Federal Register, in accordance with 19 CFR 351.224(b).

Assessment Rates

Pursuant to 19 CFR 351.212(b)(2), Commerce has determined, and U.S. Customs and Border Protection (CBP) shall assess, countervailing duties on all appropriate entries of subject merchandise in accordance with the final results of this review, for the above-listed companies at the applicable ad valorem assessment rates. We intend to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Instructions

In accordance with section 751(a)(2)(C) of the Act, Commerce also intends to instruct CBP to collect cash deposits of estimated countervailing duties in the amounts shown for each of the respective companies listed above on shipments of subject merchandise entered, or withdrawn from warehouse, for consumption on or after the date of publication of the final results of this administrative review.⁷ For all non-reviewed firms subject to the Order, we will instruct CBP to continue to collect cash deposits of estimated countervailing duties at the most recent company-specific or all-others rate applicable to the company, as appropriate. These cash deposit requirements, effective upon publication of these final results, shall remain in effect until further notice.

⁷ See, e.g., Honey from Argentina: Results of Countervailing Duty Administrative Review, 69 FR 29518 (May 24, 2004), and accompanying IDM at Issue 4.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: September 12, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Non-Selected Companies Under Review

V. Subsidies Valuation Information

VI. Changes Since the Preliminary Results

VII. Use of Facts Otherwise Available

VIII. Analysis of Programs

IX. Discussion of the Issues

Comment 1: Whether Commerce Should Grant Riverside Plywood an Entered Value Adjustment

Comment 2: Whether Commerce Erroneously Applied Adverse Facts Available to Find That Input Suppliers are Government Authorities

Comment 3: Whether Commerce Made Certain Errors in its Preliminary Calculations

X. Recommendation

[FR Doc. 2025-18134 Filed 9-18-25; 8:45 am]

BILLING CODE 3510-DS-P